DEPARTMENT OF ENERGY

Federal Energy Regulatory Commission

Combined Notice of Filings #1

Take notice that the Commission received the following electric rate filings:

Docket Numbers: ER10-1720-003; ER10-2285-003; ER10-2404-002; ER10-2423-002; ER10-2942-003; ER10-2994-007; ER10-3158-003; ER10-3159-002; ER10-3161-003; ER10-3162-003; ER11-2112-004; ER11-2196-004; ER11-2462-003; ER11-2463-003; ER11-2464-003; ER11-2465-003; ER11-2466-003; ER11-2467-003; ER11-2468-003; ER11-2469-003; ER11-2470-003; ER11-2471-003; ER11-2472-003; ER11-2473-003; ER11-2474-005; ER11-2475-003; ER11-2482-004; ER11-2483-003; ER11-2484-003; ER11-2485-004; ER11-2486-003; ER11-2487-004; ER11-2488-003; ER11-2507-003; ER11-2514-003; ER11-2563-004; ER11-2564-004; ER12-2075-002; ER12-2076-002; ER12-2077-002; ER12-2078-002; ER12-2081-002; ER12-2083-002; ER12-2084-002; ER12-2086-002; ER12-2097-002; ER12-2101-002; ER12-2102-002; ER12-2106-002; ER12-2107-002; ER12-2108-002; ER12-2109-002; ER12-308-003; ER12-422-002; ER12-96-002.

Applicants: Dry Lake Wind Power II LLC, Central Maine Power Company, Flat Rock Windpower II LLC, Flat Rock Windpower LLC, Elk River Windfarm, LLC, Iberdrola Renewables, LLC, Dillion Wind LLC, Dry Lake Wind Power, LLC, Shiloh I Wind Project, LLC, Mountain View Power Partners III, LLC, Blue Creek Wind Farm LLC, San Luis Solar LLC, Big Horn Wind Project LLC, Big Horn II Wind Project LLC, Colorado Green Holdings LLC, Hay Canyon Wind LLC, Juniper Canyon Wind Power LLC, Klamath Energy LLC, Klamath Generation LLC, Klondike Wind Power, LLC, Klondike Wind Power II LLC, Klondike Wind Power III LLC, Leaning Juniper Wind Power II LLC, Pebble Springs Wind LLC, Star Point Wind Project LLC, Twin Buttes Wind LLC, Casselman Windpower LLC, Hardscrabble Wind Power LLC, Lempster Wind, LLC, Locust Ridge Wind Farm, LLC, Locust Ridge Wind Farm II, LLC, Providence Heights Wind, LLC, Streator-Cayuga Ridge Wind Power LLC, Carthage Energy, LLC, PEI Power II, LLC, New York State Electric & Gas Corporation, Rochester Gas & Electric Corporation, Atlantic Renewable Projects II LLC, Barton Windpower LLC, Buffalo Ridge I LLC, Buffalo Ridge II LLC, Elm Creek Wind, LLC, Elm Creek Wind II LLC, Farmers City Wind, LLC, Flying Cloud Power Partners, LLC, Moraine Wind LLC, Moraine Wind II LLC, New Harvest Wind Project LLC, Rugby Wind LLC, Trimont Wind I LLC, MinnDakota Wind LLC, Northern Iowa Windpower II LLC, Manzana Wind LLC, New England Wind, LLC, South Chestnut LLC.

Description: Notice of Change in Status of the Iberdrola MBR Sellers, et al.

Filed Date: 9/20/12.

Accession Number: 20120920-5164.

Comments Due: 5 p.m. ET 10/11/12.

Docket Numbers: ER10-1997-001.

Applicants: Midwest Independent Transmission System.

Description: 9-20-12 Baseline Clean-Up to be effective 7/28/2010.

Filed Date: 9/20/12.

Accession Number: 20120920-5001.

Comments Due: 5 p.m. ET 10/11/12.

Docket Numbers: ER11-4711-001.

Applicants: R&R Energy, Inc.

Description: R&R Energy Compliance Filing to be effective 10/29/2012.

Filed Date: 9/20/12.

Accession Number: 20120920-5008.

Comments Due: 5 p.m. ET 10/11/12.

Docket Numbers: ER12-1986-001.

Applicants: Tucson Electric Power Company.

Description: TEP Compliance Filing—Amended and Restated Balancing Authority Agreement to be effective 8/7/2012.

Filed Date: 9/20/12.

Accession Number: 20120920-5003.

Comments Due: 5 p.m. ET 10/11/12.

Docket Numbers: ER12-2104-001.

Applicants: Michigan Electric Transmission Company.

Description: Michigan Electric Transmission Company, LLC submits tariff filing per 35: METC Compliance Filing to be effective 8/27/2012.

Filed Date: 9/20/12.

Accession Number: 20120920-5100.

Comments Due: 5 p.m. ET 10/11/12.

Docket Numbers: ER12-2132-001.

Applicants: ITC Midwest LLC.

Description: ITC Midwest LLC submits tariff filing per 35: Compliance Filing of ITC Midwest to be effective 8/28/2012.

Filed Date: 9/20/12.

Accession Number: 20120920-5141.

Comments Due: 5 p.m. ET 10/11/12.

Docket Numbers: ER12-2263-001.

Applicants: Arizona Public Service Company.

Description: Arizona Public Service Company submits tariff filing per 35: REFILE Rate Schedule No. 217 Compliance Filing to be effective 10/1/2012.

Filed Date: 9/20/12.

Accession Number: 20120920-5106.

Comments Due: 5 p.m. ET 10/11/12.

Docket Numbers: ER12-2297-002.

Applicants: BFE Scheduling, LLC.

Description: Inquiry Response to be effective 9/24/2012.

Filed Date: 9/20/12.

Accession Number: 20120920-5004.

Comments Due: 5 p.m. ET 10/11/12.

Docket Numbers: ER12-2661-000.

Applicants: PJM Interconnection, L.L.C.

Description: Original Service Agreement No. 3397; Queue No. W2-030 to be effective 8/23/2012.

Filed Date: 9/20/12.

Accession Number: 20120920-5032.

Comments Due: 5 p.m. ET 10/11/12.

Docket Numbers: ER12-2662-000.

Applicants: Park Power LLC.

Description: Application for Market-Based Rate Authorization to be effective 11/19/2012.

Filed Date: 9/20/12.

Accession Number: 20120920-5074.

Comments Due: 5 p.m. ET 10/11/12.

Docket Numbers: ER12-2663-000.

Applicants: PJM Interconnection, L.L.C.

Description: Queue Position V3-045; Original Service Agreement Nos. 3398 & 3399 to be effective 8/20/2012.

Filed Date: 9/20/12.

Accession Number: 20120920-5079.

Comments Due: 5 p.m. ET 10/11/12.

Docket Numbers: ER12-2664-000.

Applicants: PJM Interconnection, L.L.C.

Description: Notice of Cancellation of Service Agreement 3197 in Docket No. ER12-1000-000 to be effective 8/20/2012.

Filed Date: 9/20/12.

Accession Number: 20120920-5087.

Comments Due: 5 p.m. ET 10/11/12.

Docket Numbers: ER12-2665-000.

Applicants: El Paso Electric Company.

Description: Concurrence of EPE to TEP Rate Schedule No. 321 to be effective 12/28/2011.

Filed Date: 9/20/12.

Accession Number: 20120920-5094.

Comments Due: 5 p.m. ET 10/11/12.

Docket Numbers: ER12-2666-000.

Applicants: Bangor Hydro Electric Company.

Description: Bangor Hydro Electric Company submits tariff filing per 35.13(a)(2)(iii: Filing of E&P Agreement with Passadumkeag Windpark to be effective 9/13/2012.

Filed Date: 9/20/12.

Accession Number: 20120920-5103.

Comments Due: 5 p.m. ET 10/11/12.

Docket Numbers: ER12-2668-000.

Applicants: Arizona Public Service Company.

Description: Arizona Public Service Company submits tariff filing per 35.13(a)(2)(iii: Southwest Reserve Sharing Group Certificate of Concurrence to be effective 12/28/2011.

Filed Date: 9/20/12.

Accession Number: 20120920-5143.

Comments Due: 5 p.m. ET 10/11/12.

Docket Numbers: ER12-2669-000.

Applicants: California Independent System Operator C.

Description: California Independent System Operator Corporation submits tariff filing per 35.13(a)(2)(iii: 2012-09-20 Replacement Requirement for RA Maintenance Outages Amendment to be effective 11/20/2012.

Filed Date: 9/20/12.

Accession Number: 20120920-5148.

Comments Due: 5 p.m. ET 10/11/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2012.
Nathaniel J. Davis, Sr.,
Deputy Secretary.

[FR Doc. 2012-23943 Filed 9-27-12; 8:45 am]

BILLING CODE 6717-01-P